DEPARTMENT OF COMMERCE

International Trade Administration

[A-570-900]

Diamond Sawblades and Parts Thereof From the People's Republic of China: Initiation of Antidumping Duty Changed Circumstances Review

AGENCY: Import Administration, International Trade Administration, Department of Commerce.

DATES: Effective Date: September 30, 2010.

SUMMARY: The Department of Commerce (“Department”) has received information sufficient to warrant the initiation of a changed circumstances review “CCR” of the antidumping duty order on diamond sawblades and parts thereof from the People's Republic of China (“PRC”). Specifically, based on requests filed by the Diamond Sawblade Manufacturers Coalition (“DSMC”) and Hebei Jikai,¹ the Department is initiating a CCR to determine whether Hebei Husqvarna-Jikai Diamond Tools Co., Ltd. is the successor-in-interest to (1) Hebei Jikai Industrial Group Co., Ltd. or (2) Electrolux Construction Products (Xiamen) Co., Ltd. (“Electrolux Xiamen”).

¹ Husqvarna Construction Products North America, Inc., Hebei Husqvarna-Jikai Diamond Tools Co., Ltd., and Hebei Jikai Industrial Group Co., Ltd. (collectively “Hebei Jikai”).

FOR FURTHER INFORMATION CONTACT: Alan Ray, AD/CVD Operations, Office 9, Import Administration, International Trade Administration, U.S. Department of Commerce, 14th Street and Constitution Avenue, NW., Washington, DC 20230; telephone: (202) 482-5403.

SUPPLEMENTARY INFORMATION:

Background

On November 4, 2009, the Department published antidumping duty orders on diamond sawblades and parts thereof from the PRC and the Republic of Korea,² as a result of the United States International Trade Commission reversing its initial negative determination on remand from the United States Court of International Trade. As part of those orders, in the investigation, Hebei Jikai Industrial Group Co., Ltd. received a calculated rate of 48.5 percent while Electrolux Xiamen received the PRC-wide rate of 164.09 percent.³ On August 13, 2010, DSMC filed a submission with the Department requesting that it conduct a CCR of the antidumping duty order on diamond sawblades and parts thereof from the PRC to determine whether Hebei Husqvarna-Jikai Diamond Tools Co., Ltd. is a successor-in-interest to Electrolux Xiamen.⁴ On August 20, 2010, DSMC submitted further information supporting its claim that Hebei Husqvarna-Jikai Diamond Tools Co., Ltd. should be found to be the successor-in-interest to Electrolux Xiamen. DSMC provided a narrative and supporting documentation accounting for changes in the name, ownership, production location, management, and product line involving the entities at issue.⁵

² Diamond Sawblades and Parts Thereof From the People's Republic of China and the Republic of Korea: Antidumping Duty Orders, 74 FR 57145 (November 4, 2009) (“Order”).

³ Final Determination of Sales at Less Than Fair Value and Final Partial Affirmative Determination of Critical Circumstances: Diamond Sawblades and Parts Thereof from the People's Republic of China, 71 FR 29303 (May 22, 2006).

⁴ See Letter from DSMC to the Department regarding Diamond Sawblades and Parts Thereof from the People's Republic of China—Request for Initiation of Changed Circumstances Review, dated August 13, 2010.

⁵ See Letter from DSMC to the Department regarding Diamond Sawblades and Parts Thereof from the People's Republic of China—Supplementary Information on Request for Initiation of Changed Circumstances Review, dated August 20, 2010.

On September 13, 2010, Hebei Jikai filed a submission with the Department requesting that it CCR review and, at the time of initiation, find that Hebei Husqvarna-Jikai Diamond Tools Co., Ltd. is the successor-in-interest to Hebei Jikai Industrial Group Co., Ltd. Hebei Jikai provided a narrative description and supporting documentation addressing changes in: (1) Production facilities; (2) supplier relationships; (3) management; and (4) customer base.⁶

⁶ See Letter from Hebei Jikai to the Department regarding Diamond Sawblades and Parts Thereof from the People's Republic of China—Request for Initiation of a Changed Circumstances Review.

On September 20, 2010, DSMC submitted a request that at the time of initiation that the Department should also issue its preliminary determination that all subject merchandise exported by Hebei Jikai should be subject to the PRC-wide rate of 164.09 percent.⁷

⁷ See Letter from DSMC to the Department regarding Diamond Sawblades and Parts Thereof from the People's Republic of China—Request for Simultaneous Initiation of Changed Circumstances Review and Issuance of Preliminary Determination, dated September 20, 2010.

Scope of the Order

The products covered by this order are all finished circular sawblades, whether slotted or not, with a working part that is comprised of a diamond segment or segments, and parts thereof, regardless of specification or size, except as specifically excluded below. Within the scope of these orders are semifinished diamond sawblades, including diamond sawblade cores and diamond sawblade segments. Diamond sawblade cores are circular steel plates, whether or not attached to non-steel plates, with slots. Diamond sawblade cores are manufactured principally, but not exclusively, from alloy steel. A diamond sawblade segment consists of a mixture of diamonds (whether natural or synthetic, and regardless of the quantity of diamonds) and metal powders (including, but not limited to, iron, cobalt, nickel, tungsten carbide) that are formed together into a solid shape (from generally, but not limited to, a heating and pressing process).

Sawblades with diamonds directly attached to the core with a resin or electroplated bond, which thereby do not contain a diamond segment, are not included within the scope of these orders. Diamond sawblades and/or sawblade cores with a thickness of less than 0.025 inches, or with a thickness greater than 1.1 inches, are excluded from the scope of these orders. Circular steel plates that have a cutting edge of non-diamond material, such as external teeth that protrude from the outer diameter of the plate, whether or not finished, are excluded from the scope of these orders. Diamond sawblade cores with a Rockwell C hardness of less than 25 are excluded from the scope of these orders. Diamond sawblades and/or diamond segment(s) with diamonds that predominantly have a mesh size number greater than 240 (such as 250 or 260) are excluded from the scope of these orders. Merchandise subject to these orders is typically imported under heading 8202.39.00.00 of the Harmonized Tariff Schedule of the United States (“HTSUS”). When packaged together as a set for retail sale with an item that is separately classified under headings 8202 to 8205 of the HTSUS, diamond sawblades or parts thereof may be imported under heading 8206.00.00.00 of the HTSUS. The tariff classification is provided for convenience and customs purposes; however, the written description of the scope of these orders is dispositive.

Initiation of CCR

Pursuant to section 751(b)(1) of the Tariff Act of 1930, as amended (“Act”), the Department will conduct a CCR upon receipt of information concerning, or a request from, an interested party for a review of an antidumping duty order which shows changed circumstances sufficient to warrant a review of the order.

In accordance with 19 CFR 351.216(d), the Department has determined that the information submitted by DSMC and Hebei Jikai constitutes sufficient evidence to initiate a CCR. In an antidumping duty changed circumstances review involving a successor-in-interest determination, the Department typically examines several factors including, but not limited to, changes in: (1) Management; (2) production facilities; (3) supplier relationships; and (4) customer base.⁸ Although no single factor will necessarily provide a dispositive indication that the requestor is the successor-in-interest to the predecessor company, generally, the Department will consider one company to be a successor-in-interest to another company if its resulting operation is essentially similar to that of its predecessor.⁹ Therefore, if the record demonstrates that, with respect to the production and sale of the subject merchandise, the new company operates as the same business entity as the predecessor company, the Department may assign the new company the cash deposit rate of its predecessor.¹⁰

⁸ See, e.g., Pure Magnesium In Granular Form from the People's Republic of China: Initiation of Changed Circumstances Review, 75 FR 51002 (August 18, 2010).

⁹ See, e.g., Notice of Initiation of Antidumping Duty Changed Circumstances Review: Certain Forged Stainless Steel Flanges from India, 71 FR 327 (January 4, 2006).

¹⁰ See Notice of Final Results of Changed Circumstances Antidumping Duty Administrative Review: Polychloroprene Rubber from Japan, 67 FR 58 (January 2, 2002); see also Fresh and Chilled Atlantic Salmon from Norway; Final Results of Changed Circumstances Antidumping Duty Administrative Review, 64 FR 9979 (March 1, 1999).

Based on the information provided in their submissions, DSMC and Hebei Jikai have provided sufficient evidence to initiate a review to determine whether Hebei Husqvarna-Jikai Diamond Tools Co., Ltd. is the successor-in-interest to Electrolux Xiamen or Hebei Jikai Industrial Group Co., Ltd. Therefore, pursuant to section 751(b)(1) of the Act and 19 CFR 351.216(d), we are initiating a CCR. Although Hebei Jikai submitted documentation regarding changes in management, suppliers, customer base, and production facilities that the Department considers in its successor-in-interest analysis, we will need additional time to explore Electrolux Xiamen's involvement in Hebei Husqvarna-Jikai Diamond Tools Co., Ltd. prior to reaching a preliminary determination. Accordingly, the Department has determined that it is not expediting this action by combining the preliminary results of review with this notice of initiation.¹¹

¹¹ See 19 CFR 351.221(c)(3)(ii); see also Notice of Initiation of Antidumping Duty Changed Circumstances Review: Certain Pasta From Turkey, 74 FR 681 (January 7, 2009).

The Department intends to issue questionnaires requesting additional information for the review and will publish in the Federal Register a notice of the preliminary results of the antidumping duty CCR, in accordance with 19 CFR 351.221(b)(2) and 351.221(c)(3)(i). That notice will set forth the factual and legal conclusions upon which our preliminary results are based and a description of any action proposed. Pursuant to 19 CFR 351.221(b)(4)(ii), interested parties will have an opportunity to comment on the preliminary results of review. In accordance with 19 CFR 351.216(e), the Department will issue the final results of its antidumping duty CCR not later than 270 days after the date on which the review is initiated.

This notice is published in accordance with sections 751(b)(1) and 777(i)(1) of the Act and 19 CFR 351.216.

Dated: September 24, 2010.
Susan H. Kuhbach,
Acting Deputy Assistant Secretary for Antidumping and Countervailing Duty Operations.

[FR Doc. 2010-24602 Filed 9-29-10; 8:45 am]

BILLING CODE 3510-DS-P